DEPARTMENT OF THE TREASURY

Alcohol and Tobacco Tax and Trade Bureau

27 CFR Parts 4, 24, and 27

[Re: Notice No. 51]

RIN 1513-AB00

Certification Requirements for Imported Natural Wine (2005R-002P); Correction

AGENCY: Alcohol and Tobacco Tax and Trade Bureau (TTB), Treasury.

ACTION: Notice of proposed rulemaking; correction.

SUMMARY: On August 24, 2005, TTB published a notice of proposed rulemaking in the Federal Register regarding the certification requirements for imported natural wine. We also published a temporary rule on the same subject in the same issue. In that notice of proposed rulemaking, a cross reference contains an incorrect CFR section number. This document corrects that error.

FOR FURTHER INFORMATION CONTACT: Gail Davis, International Trade Division, Alcohol and Tobacco Tax and Trade Bureau, telephone 202-927-8110.

SUPPLEMENTARY INFORMATION: On August 24, 2005, TTB published a notice of proposed rulemaking, Notice No. 51, in the Federal Register entitled “Certification Requirements for Imported Natural Wine” (70 FR 49516). Notice No. 51 was cross-referenced to a temporary rule on the same subject, which was published in the same issue as T.D. TTB-31 (70 FR 49479). Notice No. 51 contains a cross reference with an incorrect CFR section number.

Therefore, in the Federal Register of August 24, 2005, on page 49518, in the first column, in paragraph number (7), the cross-reference instruction should read as follows:

[The text of proposed § 27.140 is the same as the text of § 27.140 as set forth in the temporary rule published elsewhere in this issue of the Federal Register.]

Dated: June 1, 2005.
Francis W. Foote,
Director, Regulations and Rulings Division.

[FR Doc. 05-17756 Filed 9-7-05; 8:45 am]

BILLING CODE 4810-31-P